DEPARTMENT OF AGRICULTURE

Rural Housing Service

[Docket No. RHS-21-MFH-0015]

Off-Farm Labor Housing Technical Assistance (Off-FLH TA) Grants

AGENCY: Rural Housing Service, United States Department of Agriculture (USDA).

ACTION: Notice of funds availability (NOFA).

SUMMARY: The Rural Housing Service (RHS), a Rural Development (RD) agency of the United States Department of Agriculture (USDA), announces the availability of $1 million in grant funding, and the timeframe to submit applications for Off-Farm Labor Housing Technical Assistance (Off-FLH TA) grants. This NOFA solicits applications from eligible private and public nonprofit (NP) agencies to provide technical assistance (TA) to organizations and groups qualified to apply for Section 514 Off-Farm Labor Housing (Off-FLH) loans and Section 516 Off-FLH grants. Work performed under these grants is expected to increase the availability of decent, safe, and sanitary housing for farm laborers.

DATES: The closing deadline for receipt of all applications in response to this NOFA is 5:00 p.m., Eastern Daylight Time on March 21, 2022. See the SUPPLEMENTARY INFORMATION section for additional information.

ADDRESSES: Applications to this Notice must be submitted electronically via CloudVault. Specific instructions on how to submit applications electronically are provided below within this Notice under the SUPPLEMENTARY INFORMATION section and can also be viewed at: https://www.grants.gov.

FOR FURTHER INFORMATION CONTACT: Christa Lindsey, Production and Preservation Division, Multi-Family Housing via email: christa.lindsey@usda.gov or at (352) 538-5747 (this is not a toll-free number). Persons with disabilities who require alternative means for communication should contact the U.S. Department of Agriculture (USDA) Target Center at (202) 720-2600 (this is not a toll-free number).

SUPPLEMENTARY INFORMATION:

Authority

This solicitation is authorized under Section 516(i) of the Housing Act of 1949, as amended; 42 U.S.C. 1486(i); and 7 CFR 3560.

Rural Development: Funding Key Priorities

The Agency encourages applicants to consider projects that will advance the following three key priorities:

• Assisting Rural communities recover economically from the impacts of the COVID-19 pandemic, particularly disadvantaged communities.

• Ensuring all rural residents have equitable access to RD programs and benefits from RD funded projects; and

• Reducing climate pollution and increasing resilience to the impacts of climate change through economic support to rural communities.

Additional information regarding RD's funding priorities is available at the following website: https://www.rd.usda.gov/priority-points.

Expenses incurred in developing grant application packages will be at the applicant's sole risk.

Overview

Federal Agency: Rural Housing Service.

Funding Opportunity Title: Off-Farm Labor Housing Technical Assistance Grants.

Announcement Type: Notice of Funding Availability.

Assistance Listing (AL) Number: 10.495.

Due Date for Applications: The deadline for receipt of all applications in response to this NOFA is 5:00 p.m., Eastern Daylight Time on March 21, 2022.

Submissions: Complete application packages must be submitted electronically via CloudVault and must be received by the closing deadline.

Items in Supplementary Information

I. Program Overview

II. Federal Award Information

III. Definitions

IV. Eligibility Information

V. Application Submission Information

VI. Application Proposal Information and Review, Evaluation and Scoring Criteria

VII. Federal Award Administration Information

VIII. Other Information

I. Program Overview

A. Background

The Rural Housing Service (RHS or Agency) is an agency of the U.S. Department of Agriculture. RHS administers the Multifamily Housing Programs that provides affordable multifamily rental housing in rural areas by financing projects geared for low-income, elderly, and disabled individuals and families as well as domestic farm laborers. MFH programs extends its reach by guaranteeing loans for affordable rental housing designed for low to moderate-income residents in rural areas and towns. MFH Programs are administered, subject to appropriations, by the USDA as authorized under Sections 514, 515 and, 516 and 521 of the Housing Act of 1949, as amended.

RHS regulations for Section 514 and Section 516 Off-FLH program are published at 7 CFR part 3560. Further requirements for technical assistance grants can be found at 7 CFR part 3560, subpart L. The technical assistance grants authorized under Section 516 are for the purpose of encouraging development of domestic and migrant Off-FLH projects under Sections 514 and 516 of the Housing Act of 1949. The primary work of the Off-FLH TA grants funded by this announcement is to facilitate improved development and packaging of the Off-FLH loan and grant applications, which is expected to increase the availability of decent, safe, and sanitary housing for farm laborers. Proposals must demonstrate the capacity to provide the intended technical assistance.

Eligible nonprofits must demonstrate experience and expertise in FLH development, technical assistance delivery, and federal grant management, and must have the capacity to provide advisory services to groups and organizations who are eligible to apply for Off-FLH loans and grants, but who lack the experience and/or capacity to develop and package their own loan and grant dockets to submit to the Agency for funding consideration. Responding entities may apply to serve a single State or multi-State area. Funding for this opportunity is $1 million.

B. Program Description

The technical assistance grants authorized under this funding opportunity are for the purpose of encouraging off-farm labor housing development under Section 516(i) of the Housing Act of 1949, as amended; (42 U.S.C. 1486(i)). RHS regulations for Section 514 and Section 516 Off-FLH programs and provisions for FLH technical assistance grants are published at 7 CFR part 3560, subpart L.

Eligible entities responding to this notice are expected to bring knowledge, experience, and expertise in farm labor housing development, federal grant administration, and technical assistance program development, implementation, and delivery. Respondents may submit applications to serve a single state or multi-state areas.

II. Federal Award Information

A. Assistance Listing (AL) Number: 10.495

Assistance Listing (AL) Title: Farm Labor Housing Technical Assistance (FLH TA) Grants.

B. Award Information

The Agency will evaluate and score the grant applications according to the criteria set forth in this NOFA. The minimum award per funded application will be $50,000 and the maximum award per funded application will be $250,000. The Agency reserves the right to withhold the awarding of funds for applications that fail to meet the minimum required score of 70 points.

Applicants selected for funding will complete a grant agreement suitable to the Agency, which outlines the terms and conditions of the Grant award. The Agency may request changes to the Statement of Work (SOW) which will be incorporated into the grant agreement. If a selected grantee does not accept the terms of the Agency and/or does not deliver an executed Grant Agreement to the Agency within ten business days after receiving the Grant Agreement with the Agency-approved SOW, the Agency may choose to rescind the award and select another grantee based on scoring without further notice.

C. Period of Performance

The period of performance is 24 months with one possible extension allowed for up to an additional 12 months at the Agency's discretion. However, proposals should be structured to utilize all grant funds within 24 months from the date of the award. The grant term will be defined in the Grant Agreement and will become effective once signed by the grantee and the Agency. Grant funds will be obligated within ten business days after executing the Grant Agreement.

III. Definitions

The terms and conditions provided in this NOFA are applicable to and for the purposes of this NOFA only. Unless otherwise provided in the award documents, all financial terms not defined herein shall have the meaning as defined by Generally Accepted Accounting Principles (GAAP).

Agency means the Rural Housing Service (RHS), an agency of the U.S. Department of Agriculture.

Capacity for the purpose of this notice is defined as demonstrated experience in the areas of federal grant administration and farm labor housing technical assistance program development and delivery.

Curable deficiency is defined as an error, omission, or oversight that if corrected, would not alter, in a positive or negative fashion, the review and scoring of the application package.

Grantee is an entity that has received a grant award from the Agency.

Key personnel services include technical assistance delivery and grant administration.

Period of performance means the total estimated time interval between the start of the initial grant award and the planned end date.

Private nonprofit agency is a corporation owned and controlled by private persons; is organized and operated for purposes other than making gains or profits for the corporation or members; and is legally precluded from distributing to its members any gains or profits.

Public nonprofit agency is a nonprofit corporation other than a private nonprofit corporation, including a municipal corporation or other corporate agency of a State, Tribal or local government.

Rural Development (RD) means a mission area within USDA which includes Rural Housing Service, Rural Utilities Service, and Rural Business-Cooperative Service.

Technical Assistance for the purpose of this notice is defined as technical expertise, information and services provided by an eligible nonprofit entity with the necessary farm labor housing development knowledge, experience, and capacity to an Off-FLH applicant entity who lacks the knowledge, experience and/or capacity to develop, package, and submit their own loan and grant dockets to the Agency for funding consideration.

Targeted service market areas for the purpose of this notice are market areas identified as having unmet need and/or unsatisfied market demand for new off-farm labor housing development projects.

A. Commonly Used Acronyms

CFR Code of Federal Regulation

DUNS Data Universal Numbering System

FLH Farm Labor Housing

NOFA Notice of Funding Availability

NP Nonprofit entity RD Rural Development

RHS Rural Housing Service

SAM System for Award Management

SOW Statement of Work

TA Technical Assistance

USDA United States Department of Agriculture

IV. Eligibility Information

A. Applicants

Applicants must meet the following eligibility requirements by the application deadline. Applications that fail to meet any of these requirements by the application deadline will be deemed ineligible and will not be evaluated further.

B. Applicant Eligibility

Eligibility for grants under this NOFA is limited to private nonprofit and public nonprofit agencies.

C. Organization Status

(1) Responding entities must document their organization status as follows:

(i) Status (i.e., Articles of Incorporation) as a Non-Profit (NP) entity.

(ii) Good standing within the State, or Tribe, in which the entity is organized.

(iii) Legal authority to provide the stated services under the applicable laws for the state(s) (or tribes) in which operation is proposed. Examples of acceptable documentation include but are not limited to bylaws, organizational charters, and statutes or regulations.

(iv) No current or unresolved default or violation of any other Federal, Tribal, State, or local grant or loan agreement(s).

(v) All applicants will be screened for eligibility to participate in the grant program using Treasury's Do Not Pay Portal in compliance with the Improper Payments Elimination and Recovery Improvement Act.

(vi) Applicants are not eligible if they have been debarred or suspended or otherwise excluded from, or ineligible for, participation in Federal assistance programs under 2 CFR parts 180 and 417.

(vii) All applicants must have the knowledge, experience, and capacity to deliver the off-farm labor housing technical assistance services outlined within this Notice. Applicants will include a proposed SOW which will be evaluated as part of the application package.

(viii) The requirements above will also apply to any entities performing services on behalf of the respondent.

D. Activities

(1) The primary work under these Off-FLH TA grants will focus on private and public nonprofit technical assistance providers delivering advisory services to qualified Off-FLH loan/grant applicant groups and organizations who lack the knowledge, experience and/or capacity to develop, package, and submit their own loan and grant dockets to the Agency for funding consideration.

(2) Qualified applicants for Section 514 loans and Section 516 grants may include broad-based non-profit organizations, non-profit organizations of farmworkers, federally recognized Indian tribes, community organizations, agencies, or political subdivisions of State, Tribal or local Government, public agencies (such as housing authorities), and other eligible FLH organizations.

(3) Grantees are expected to provide technical assistance services directly to recipients; therefore, using consultants/contractors for key personnel services (technical assistance delivery and grant administration) will be limited to a maximum of 10% of the total key personnel services budget. This requirement is intended to advance the Agency's goal of increasing the capacity of Agency-funded nonprofit TA providers to deliver technical assistance services directly to recipients.

(4) Off-Farm labor housing may be constructed in either urban or rural areas if need and demand for such housing is supported. Grantees will concentrate their activities in market areas identified as having unmet need and/or unsatisfied market demand for new Off-FLH construction projects.

E. Eligible Purposes/Costs

Costs will be limited to those allowed under 2 CFR part 200. Grantees may, with Agency concurrence and approval, utilize Off-FLH TA grant funds for the following purposes (this is not an exhaustive list):

(1) Conducting targeted outreach efforts to inform and recruit potential Off-FLH applicants.

(2) Providing advisory services to eligible Off-FLH applicants for conducting site searches, estimating construction costs, resolving planning, and zoning issues, and negotiating and executing property acquisitions.

(3) Assisting applicants during the application development, packaging, submission, underwriting and closing processes; and for other transaction details that are considered part of the application process, such as financial analyses, Capital Needs Assessments (CNAs), appraisals, market surveys/studies, and other consultation, advisory and non-construction services.

(4) Grantees may also on a case-by-case basis with advanced approval by the Agency, provide technical assistance to entities approved for Off-FLH funding during the construction and rent-up/lease-up phases of development and provide training to Agency-funded Off-FLH projects to support successful long-term management of Off-FLH properties.

F. Ineligible Purposes/Costs

In addition to costs identified as unallowable by 2 CFR part 200 or 400, grant funds cannot be used for the following (this is not an exhaustive list):

(1) Construction (in any form) including building materials, labor, and costs or expenditures otherwise typically included as hard costs for actual construction.

(2) To reimburse grantees for technical assistance services provided to another nonprofit or public body applicant in the development and packaging of its loan/grant docket and project when those applicant entities have requested reimbursement for technical assistance expenses as part of their total project development cost (See (7 CFR 3560.553 (c)) & 7 CFR 3560.53 (o) (3). (Duplication of service costs is not allowed.)

(3) In counties with Agency-financed Off-FLH properties currently operating under a “diminished need” occupancy waiver (7 CFR 3560.152; 3560.576 (e)).

(4) When an identity of interest exists between the technical assistance provider (or any third-party entity acting on their behalf) and the loan/grant applicant. Identity of interest is defined in 7 CFR 3560.11.

G. Conflicts of Interest

Conflicts of interest are situations in which an officer, director, board member, agent, employee, or partner of the non-Federal entity being considered for a Federal award, any immediate family member of the parties indicated herein, or any organization which employs or is about to employ any of the parties indicated herein, have a competing personal, professional, financial, and/or other interest in activities performed under the Federal award or may receive a tangible personal benefit from activities performed under the Federal award which renders them unable, or gives the appearance of being unable, to be impartial in conducting/administering the Federal award. Organizational conflicts of interest are situations in which the non-Federal entity being considered for a Federal award is unable, or appears to be unable, to be impartial in conducting/administering the Federal award because of its relationship with a parent company, affiliate, subsidiary organization, or other related organization or party.

(1) Entities applying for funding under this Notice and funded Grantees must disclose in writing any potential conflicts of interest to the Agency, including situations that would create a conflict of interest, potential for conflict of interest, or any appearance of a conflict of interest.

(2) No Grantee funded under this Notice or its officers, directors, board members, agents, employees, or partners can participate in conducting or administering the Off-FLH TA grant award if a real or apparent conflict of interest exists.

(i) Unless approved by the agency, neither the Grantee nor any officer, director, board member or partner of the Grantee may accept or share any compensation or remuneration, directly or indirectly, in any form whatsoever, from or with any party interested in the activities performed under the grant agreement.

(ii) Unless approved by the agency, neither the Grantee nor any officer, director, board member, partner or any person employed by the Grantee may accept compensation or remuneration contrary to the intentions of the grant agreement.

(iii) Unless approved by the agency, neither the Grantee nor any officer, director, board member or partner of the Grantee may be involved as an officer, director, board member or general partner in a business venture with an officer, director, board member or general partner of any other party interested in the activities performed under the grant agreement.

(3) Grantees funded under this Notice must maintain written standards of conduct governing organizational conflicts of interest and conflicts of interest related to the performance of its officers, directors, board members, agents, and employees in conducting/administering Federal grant awards. The standards of conduct must provide for disciplinary actions to be applied for violations of such standards by the Grantee and its directors, board members, officers, employees, and agents.

V. Application Submission Information

A. Electronic Application Package Submissions

All application materials must be submitted electronically via CloudVault. No other form of applications will be accepted. To be considered for funding under this Notice, application packages must be deemed complete by the Agency and must be received in the applicant's CloudVault folder by the closing deadline specified in the DATES section of this notice. The application closing deadline is firm as to date and hour. Incomplete application packages will be returned to the applicant and will not be considered for funding.

The process for submitting electronic application packages to the Agency via CloudVault is as follows:

(1) At least three (3) business days prior to the application deadline, respondents must email a request to create a shared CloudVault folder. The email must be sent to the following address: RD.FLHTA@usda.gov and should contain the following information:

(i) Subject Line: Off-Farm Labor Housing Technical Assistance NOFA Submission.

(ii) Body of email: Applicant Entity's Name and complete contact information.

(iii) Request language: “Please create a shared CloudVault folder for the submission of FLH TA application package documents.”

(iv) A shared CloudVault folder will be created within two (2) business days of receipt of the emailed request. Respondents will automatically receive an email at their submitted email address with a link to the established shared CloudVault folder after the folder is created. All required application documents in accordance with this NOFA must be uploaded into the applicant's CloudVault folder prior to the NOFA deadline. Respondents should include a Table of Contents for all documents uploaded to the shared CloudVault folder. Access permissions to the shared CloudVault folder will be removed when the submission deadline is reached. Any document(s) uploaded to the shared CloudVault folder after the submission deadline will not be reviewed or considered as part of the application package. The Agency will provide a written acknowledgement of receipt of application packages upon request by respondents.

B. Content and Format of Application Packages

All application forms should be completed in their entirety using unexpired, OMB-approved forms, which can be found at: Forms Repository | GRANTS.GOV. Each narrative page must be on numbered, letter-sized (8½ x 11) paper utilizing legible font. The Agency may contact respondents to clarify items submitted in the application package and will uniformly notify applicants of any curable deficiencies.

(1) Complete application packages must include the following:

(i) Standard Form 424, “Application for Federal Assistance-Non-construction.”

(ii) Standard Form 424A, “Budget Information-Non-Construction Programs.”

(iii) Organization status documents supporting the criteria in Part IV. Section C. of this NOFA, as well as current financial statements to evidence the applicant's status as a properly organized private or public non-profit agency with the financial ability to carry out the approved objectives of this Off-FLH TA grant program. Working agreements between the applicant entity and any third-party entities working on their behalf must be submitted as part of the application package and any associated costs must be included in the responding entity's submitted budget. Applicants must also disclose all RHS projects, either publicly or privately supported, in which they or any of their third-party affiliates have any direct or indirect ownership interest.

(iv) A written narrative proposal, which should conform to the order of the criterion as presented in Part VI. Section B.

(v) Risk Review: The Agency may request additional documentation from selected applicants in order to evaluate the financial, management, and performance risk posed by awardees as required by 2 CFR 200.205. Based on this risk review, the Agency may apply special conditions that correspond to the degree of risk assessed, either pre-award or post-award.

(vi) Civil Rights Compliance Requirements: All awards made under this notice are subject to Title VI of the Civil Rights Act of 1964 as required by 7 CFR part 15, subpart A, Section 504 of the Rehabilitation Act of 1973, the Americans with Disabilities Act (ADA) of 1990, and the Age Discrimination Act of 1975.

(vii) Awards made under this Notice are subject to the provisions contained in the Consolidated Appropriations Act, 2021 (Pub. L. 116-260) Sections 744 and 745 regarding felony convictions and corporate Federal tax delinquencies.

C. Dun and Bradstreet Data Universal Numbering System (DUNS) for Award Management (SAM)

Grant applicants must obtain a Dun and Bradstreet Data Universal Numbering System (DUNS) number and register in the System for Award Management (SAM) prior to submitting an application pursuant to 2 CFR 25.200(b). In addition, an entity applicant must maintain registration in SAM at all times during which it has an active Federal award or an application or plan under consideration by the Agency. The applicant must ensure that the information in the database is current, accurate, and complete. Applicants must ensure they complete the Financial Assistance General Certifications and Representations in SAM. Similarly, all recipients of Federal financial assistance are required to report information about first-tier subawards and executive compensation in accordance to 2 CFR part 170. So long as an entity applicant does not have an exception under 2 CFR 170.110(b), the applicant must have the necessary processes and systems in place to comply with the reporting requirements should the applicant receive funding. See 2 CFR 170.200(b).

An applicant, unless excepted under 2 CFR 25.110(b), (c), or (d), is required to:

(a) Be registered in SAM before submitting its application;

(b) Provide a valid DUNS number or unique entity identifier (UEI) in its application; and

(c) Continue to maintain an active SAM registration with current information, including information on a recipient's immediate and highest level owner and susidiaries, as well as on predecessors that have been awarded a Federal contract or grant within the last three years, if applicable, at all times during which it has an active Federal award or an application or plan under consideration by a Federal awarding agency.

The Federal awarding agency may not make a federal award to an applicant until the applicant has complied with all applicable DUNS and SAM requirements and, if an applicant has not fully complied with the requirements by the time the Federal awarding agency is ready to make a Federal award, the Federal awarding agency may determine that the applicant is not qualified to receive a Federal award and use that determination as a basis for making a Federal award to another applicant.

As required by the Office of Management and Budget (OMB), all grant applications must provide a DUNS number when applying for Federal grants. Organizations can receive a DUNS number at no cost by calling the dedicated toll-free number at 1-866-705-5711 or via internet at http://fedgov.dnb.com/webform. Additional information concerning this requirement can be obtained on the Grants.gov website at http://www.grants.gov. Similarly, applicants may register for SAM at https://www.sam.gov or by calling 1-866-606-8220.

The applicant must provide documentation that they are registered in SAM and their DUNS or UEI number. If the applicant does not provide documentation that they are registered in SAM and their DUNS or UEI number, the application will not be considered for funding.

D. Compliance With Other Federal Statutes and Other Submission Requirements

(1). Other Federal Statutes. The applicant must certify to compliance with other Federal Statutes and regulations by completing the Financial Assistance General Certification and Representations in SAM, including, but not limited to the following:

(i) 7 CFR part 15, subpart A—Nondiscrimination in Federally Assisted Programs of the Department of Agriculture—Effectuation of Title VI of the Civil Rights Act of 1964. Civil Rights compliance includes, but is not limited to the following:

(a) Collect and maintain data provided by ultimate recipients on race, sex, and national origin.

(b) Race and ethnicity data will be collected in accordance with Office of Management and Budget (OMB) Federal Register Notice, “Revisions of the Standards for the Classification of Federal Data on Race and Ethnicity” (published October 30, 1997 at 62 FR 58782). Sex data will be collected in accordance with Title IX of the Education Amendments of 1972. These items should not be submitted with the application but should be available upon request by the Agency; and

(c) The applicant and any entities providing services on their behalf must comply with Title VI of the Civil Rights Act of 1964, Title IX of the Education Amendments of 1972, the Americans with Disabilities Act (ADA), Section 504 of the Rehabilitation Act of 1973, the Age Discrimination Act of 1975, Executive Order 12250, and 7 CFR part 1901, subpart E;

(d) 2 CFR parts 200 and 400 (Uniform Administrative Requirements, Cost Principles and Audit Requirements for Federal Awards), or any successor regulations.

(e) Executive Order 13166, “Improving Access to Services for Persons with Limited English Proficiency.” For information on limited English proficiency and agency-specific guidance, go to https://www.lep.gov; and

(f) Federal Obligation Certification on Delinquent Debt.

VI. Application Proposal Information and Review, Evaluation and Scoring Criteria

A. General Information

(1) The overall objective of the Off-FLH TA grant program is to engage qualified private and public nonprofit agencies to provide TA to encourage off-farm labor housing development.

(2) The primary objectives of this funding opportunity are to determine market areas with unmet need and/or unsatisfied market demand for off-farm labor housing and to improve the overall quality of Section 514 Off-FLH loan and 516 grant application packages submitted to the Agency for funding consideration. The primary work permitted under these Off-FLH TA grant awards will focus on direct delivery of technical assistance advisory services by eligible nonprofit agencies to qualified Off-FLH loan/grant applicant groups and organizations who lack the knowledge, experience and/or capacity to develop, package, and submit their own loan and grant dockets. Qualified applicants for Section 514 Off-FLH loans and Section 516 grants may include broad-based non-profit organizations, non-profit organizations of farmworkers, federally recognized Indian tribes, community organizations, agencies, or political subdivisions of State, Tribal or local Government, public agencies (such as housing authorities), and other eligible FLH organizations identified as having an interest in applying for Agency funding.

(3) All eligible entities responding to this notice are expected to bring knowledge, experience, and expertise in farm labor housing development, federal grant administration, and technical assistance program development, implementation, and delivery. In addition, eligible entities must possess the ability to exercise leadership, organize work, and prioritize assignments to meet work demands in a timely and cost-efficient manner. Grantees funded under this NOFA are expected to provide key personnel services directly to recipients with only limited use of consultants and contractors permitted. However, if applicants intend to contract for any key personnel services from outside their organization (not to exceed the 10% limit), all entities acting on behalf of applicants must also meet these qualifications.

B. Proposal Information

The written narrative proposal should include these sections in the following order:

(1) Introduction/overview

(i) Include applicant entity's name, amount of Federal funding requested, and the geographic locations (states/service areas) in which the proposed grant work will take place. Describe the proposal's overall objectives and goals, the types of technical assistance that will be provided, the approach and strategies that will be utilized to deliver services, how impact will be quantified, and the predicted benefits or deliverables of the proposal. Briefly describe the applicant's background and experience in farm labor housing technical assistance service delivery and federal grant administration.

(2) Statement of Work/Work Plan

(i) Describe in detail the background, objectives, and proposed tasks (work plan) with a timeline, focusing on the activities outlined in Part IV. Section D. above. The SOW must list each market area the applicant has targeted to receive TA services, all of which must demonstrate unmet need and/or unsatisfied market demand for new off-farm labor housing construction projects. In determining the targeted service areas, applicants must consider the total number of farmworkers in the area, the number and percentage of farmworkers who are without adequate housing in the area, and projected future housing demand in the area. Consultation with major employers of farm laborers and with farmworker organizations in each market area is strongly encouraged prior to determining which areas to target for services. Additionally, the SOW must identify all potential Off-FLH loan/grant applicants who will be recruited to apply for Agency funding. The entities targeted for recruitment must be qualified organizations that have interest in applying for Off-FLH funding in the targeted service areas but lack the knowledge and/or capacity to apply for Agency funding on their own behalf.

(ii) Proposals should describe in detail how the applicant's existing FLH knowledge and expertise, in combination with statistical data analysis, were utilized in determining the targeted market areas and potential loan/grant applicants, and how those findings provided foundational context to their planning efforts. Also include a discussion of the applicant's organizational ability to serve the targeted communities and applicants effectively based on key personnel, established timeframes, and budget projections. Applicants should describe in detail the data utilized to support their proposal, all of which must be current, relevant, and verifiable.

(iii) Proposals should include a work plan for implementing services, listing all key personnel involved, all major activities/tasks proposed, the timeline of the proposed tasks, and the budget associated with each task. The plan should provide specific details regarding the qualifications of key personnel relating to the delivery of the Off-FLH TA services. Specify any specialized consultation services (not to exceed 10% of the total key personnel service delivery budget) deemed necessary to assist the applicant in achieving the grant objectives. Applicants should provide timelines to demonstrate when/how the TA will be delivered and describe any supporting innovative and/or traditional delivery approaches associated with implementation of the outlined key personnel tasks, including contingencies for delivering TA services remotely/virtually in order to avoid service delays and disruptions.

(iv) Alignment of Budget/Budget Justification-Proposals must include a grant funds usage projection that corresponds with a 24-month timeline for delivery and illustrates direct and indirect administrative costs in dollars, and as a percentage of the technical assistance grant fund usage. (Total administrative costs should not exceed 20%). A detailed budget justification should be included that aligns with and supports the key project tasks/activities. Project cost justification should include personnel costs and any limited consultant salaries with a description of duties.

(3) Organizational Capacity & Qualifications

(i) Proposals must describe the applicant's overall organizational knowledge, expertise, and years of experience in developing and implementing farm labor housing technical assistance programs. Include names and locations of the organizations/communities, applicants have provided with FLH TA services, the types of TA services provided to these entities, the number and types of loan/grant packages developed and submitted for Agency funding consideration on behalf of these entities, and the outcomes/success ratios of all transactions initiated within the past five years (e.g., project approved for funding, project currently in development, project completed, etc.). Additionally, proposals must include a description of how the technical assistance services provided by the applicant contributed to the development of off-farm labor housing that continues to operate successfully to meet off-farm labor housing demand in the community where it was developed.

(ii) Proposals should also describe all successful, verifiable organizational experience in managing federal technical assistance grants throughout their lifecycle. Applicants should specify the total number and types of federal technical assistance grants administered within the past five years and list the awarding federal agencies involved.

(iii) Applicants may discuss and provide documentation of additional qualifications, strengths and/or expertise not addressed above that will facilitate successful delivery of the Off-FLH TA services outlined within this notice.

(4) Proposed Outcomes

(i) Proposals should discuss how applicants will effectively and efficiently use the grant resources to maximize the share of funding available for program delivery to recipients. This discussion must include a list of all market areas targeted for TA services, identify all potentially qualified loan/grant applicant groups and organizations that will be recruited to apply for Section 514 loans and Section 516 grants in the targeted service areas, and provide a projected number of Section 514 loan and Section 516 grant application packages the applicant intends to submit for Agency funding consideration during the 24-month period of performance. (Projections should be realistic and attainable).

(5) Performance Measures

(i) Proposals should provide specific and quantifiable performance indicators and benchmarks that applicants will use for measuring the effectiveness of the TA services provided.

C. Review Information

(1) Applications will first be reviewed to determine if they meet the eligibility requirements in this notice. If all eligibility requirements are met, applications will then be reviewed for completeness. If the Agency determines that any application is ineligible or incomplete, application processing will be discontinued, which means it will not be evaluated further, no scoring information will be provided, and it will not be considered for funding.

(2) All application packages determined to be both eligible and complete will be evaluated and competitively scored using the criteria described in Part VI., Section D. of this notice. The minimum score requirement for grants awarded under this funding opportunity is 70 points.

D. Evaluation and Scoring Criteria

(1) Points will be awarded only for factors that are well-documented in the application package and, in the opinion of the Agency, meet the objectives outlined in each of the evaluation criteria. References to external websites, publications and/or other information not submitted as part of the application package will not be reviewed. Therefore, full documentation and support of all criteria is encouraged.

(2) Statement of Work (Work Plan): Soundness of Overall Approach (0-30 points). (i) Applicants can receive up to 30 points for the soundness of their overall approach for TA service delivery (See Part VI. Section B.2.). Statement(s) of work for all contractors and consultants must also be included as part of the application package.

(ii) Proposal background/objectives/tasks with timeline and plan for implementation. (0-20 points).

(iii) Alignment of Budget to SOW/Budget Justification. (0-10 points).

(3) Organizational Capacity & Qualifications (0-50 points). Applicants can receive up to 50 points for organizational capacity and qualifications (See Part VI. Section B.3.).

(i) Overall organizational knowledge, experience, and expertise in developing and implementing farm labor housing technical assistance programs. (0-20 points).

(ii) Successful, verifiable organizational experience in managing federal technical assistance grants throughout their lifecycle (in the past five years). (0-10 points).

(iii) Key personnel and qualifications relating to the delivery of proposed Off-FLH TA services, including any proposed consultation services (not to exceed 10% of the total key personnel service delivery budget). (0-20 points).

(4) Proposed Outcomes (0-45 points). Applicants can receive up to 45 points for using resources effectively and efficiently to maximize the share of funding available for program delivery to recipients (See Part VI. Section B.4.).

(i) List all targeted service areas in which respondent intends to offer Off-FLH TA services. (0-10 points).

(ii) List all qualified loan/grant applicant groups and organizations respondent intends to recruit to apply for Section 514 loans and Section 516 grants in the targeted service areas (Potential applicants must lack the capacity to apply for Agency funding on their own behalf). (0-10 points).

(iii) Projected number of Section 514 loan and Section 516 grant application packages applicant intends to submit for Agency funding consideration during the 24-month period of performance. (0-15 points).

(iv) Total proposed administrative costs (expressed as a percentage of grant funds used, not to exceed 20%). (0-10 points).

(5) Performance Measures (0-5 points).

(i) Applicants can receive up to 5 points based on the proposed performance measures they intend to use to evaluate the progress, impact, and effectiveness of the proposed Off-FLH TA services (See Part VI. Section B.5.).

(ii) Describe the measures that will be used for evaluating the progress, impact, and effectiveness of the proposed Off-FLH TA services. (0-5 points).

(6) Agency Priority Points (0-15 points): Applicants meeting the minimum scoring requirement of 70 points may be considered for up to 15 Priority scoring points.

(i) Up to 15 Priority points may be awarded to applicants proposing to advance any or all of the Agency's three key funding priorities, provided that all other requirements set forth in this notice are otherwise met (e.g., All market areas targeted to receive Off-FLH TA services must demonstrate unmet need and/or unsatisfied market demand for off-farm labor housing development projects.) The key priorities are:

(ii) COVID-19 Impacts (up to 5 points); Priority points may be awarded if the project is located in or serving one of the top 10% of counties or county equivalents based upon county risk score in the United States. Information on whether your project qualifies for priority points can be found at the following website: https://www.rd.usda.gov/priority-points.

(iii) Equity (up to 5 points); Priority points may be awarded if the project is located in or serving a community with score 0.75 or above on the CDC Social Vulnerability Index. Information on whether your project qualifies for priority points can be found at the following website: https://www.rd.usda.gov/priority-points.

(iv) Climate Impacts (up to 5 points); Priority points may be awarded if the project is located in or serving coal, oil and gas, and power plant communities whose economic well-being ranks in the most distressed tier of the Distressed Communities Index. Information on whether your project qualifies for priority points can be found at the following website: https://www.rd.usda.gov/priority-points.

(v) Meeting the minimum scoring requirement and/or receiving priority points does not guarantee a funding award. Final scores are determined by the Agency.

The following table summarizes the evaluation and scoring criteria:

Summary Table of Evaluation and Scoring Criteria
| Points
1. Statement of Work/Work Plan-Soundness of Overall Approach | 0-30.
a. Approach-Proposal background/objectives/tasks with timeline and plan for implementation | Up to 20.
b. Alignment of budget/budget justification to proposal | Up to 10.
2. Organizational Capacity/Qualifications | 0-50.
a. Years of experience and processes employed in developing and implementing technical assistance programs/services | Up to 20.
b. Organizational experience managing service delivery of federal technical assistance grants throughout their lifecycle | Up to 10.
c. Key personnel and qualifications relating to delivery of key Off-FLH TA personnel services/tasks | Up to 20.
3. Proposed outcomes | 0-45.
a. Targeted market areas in which respondent intends to offer Off-FLH TA services | Up to 10.
b. Qualified loan/grant applicant groups and organizations to which the applicant intends offer Off-FLH TA advisory services in the targeted service areas | Up to 10.
c. Projected number of Section 514 loan and Section 516 grant application packages applicant plans to submit for Agency funding consideration | Up to 15.
d. Total administrative costs expressed as a percentage of grant funds used | Up to 10.
4. Performance Measures | 0-5.
a. Measures to be used for evaluating the progress, impact, and effectiveness of the Off-FLH TA services provided | Up to 5.
5. Priority Points | 0-15.
a. Up to 15 priority points may be awarded to applicants proposing to advance any or all of the Agency's three key funding priorities: COVID-19 Impacts (up to 5 points); Equity (up to 5 points); Climate Impacts (up to 5 points) | Up to 15.

VII. Federal Award Administration Information

A. Federal Award Notices

The Agency will notify in writing applicants whose applications have been selected for funding. At the time of notification, the Agency will advise applicants what further information and documentation is required (outlined in Part VII. Section B.), along with a timeline for submitting the additional information. If the Agency determines it is unable to select an application for funding, the applicant will be informed in writing. Such notification will include the reasons the applicant was not selected. The Agency will advise applicants whose applications did not meet eligibility and/or selection criteria of their review rights or appeal rights in accordance with 7 CFR part 11.

B. Administrative and National Policy Requirements

(1) The following additional requirements apply to grantees selected for this program:

(i) Complete Form RD 1942-46 “Letter of Intent to Meet Conditions.”

(ii) Complete Form RD 1940-1, “Request for Obligations of Funds.”

(iii) Use Form SF 270, “Request for Advance or Reimbursement,” to request reimbursements. Provide receipts for expenditures, timesheets, and any other documentation to support the request for reimbursement.

(iv) Provide financial status and project performance reports as outlined in the Agency approved grant agreement.

(v) Maintain a financial management system that is acceptable to the Agency.

(vi) Ensure that records are maintained to document all activities and expenditures utilizing Off-FLH TA grant funds. Receipts for expenditures will be included in this documentation.

(vii) Collect and maintain data provided by recipients on race, sex, and national origin and ensure recipients collect and maintain the same data on beneficiaries. Race and ethnicity data will be collected in accordance with OMB Federal Register notice, “Revisions to the Standards for the Classification of Federal Data on Race and Ethnicity,” (62 FR 58782), October 30, 1997. Sex data will be collected in accordance with Title IX of the Education Amendments of 1972. These items should not be submitted with the application but should be available upon request by the Agency.

(viii) Provide a final project performance report.

(ix) Complete FMMI Vendor Code Request Form.

(x) Provide a copy of your organization's Negotiated Indirect Cost Rate Agreement.

(xi) Certify that you will comply with the Federal Funding Accountability and Transparency Act of 2006 and report information about subawards and executive compensation.

(xii) Certify that the U.S. has not obtained an outstanding judgement against your organization in a Federal Court (other than in the United States Tax Court).

(xiii) Execute Form SF-LLL, “Disclosure Form to Report Lobbying,” if applicable or certify that your organization does not lobby.

(2) The applicant must provide evidence of compliance with other federal statutes, including but not limited to the following:

(i) Debarment and suspension information is required in accordance with 2 CFR part 417 (Non procurement Debarment and Suspension) supplemented by 2 CFR part 180 if it applies. The section heading is “What information must I provide before entering into a covered transaction with a Federal agency?” located at 2 CFR 180.335. It is part of OMB's Guidance for Grants and Agreements concerning Government-wide Debarment and Suspension.

(ii) All of your organization's known workplaces by including the actual address of buildings (or parts of buildings) or other sites where work under the award takes place. Workplace identification is required under the drug-free workplace requirements in Subpart B of 2 CFR part 421, which adopts the Governmentwide implementation (2 CFR part 182) of the Drug-Free Workplace Act.

(iii) 2 CFR parts 200 and 400 (Uniform Administrative Requirements, Cost Principles and Audit Requirements for Federal Awards).

(iv) 2 CFR part 182 (Governmentwide Requirements for Drug-Free Workplace (Financial Assistance)) and 2 CFR part 421 (Requirements for Drug Free Workplace (Financial Assistance).

(v) Executive Order 13166, “Improving Access to Services for Persons with Limited English Proficiency.” For information on limited English proficiency and agency-specific guidance, go to http://www.lep.gov.

(3) The following forms for acceptance of a federal award are now collected through your registration or annual recertification in SAM.gov in the Financial Assistance General Certifications and Representations section:

(i) Form RD 400-4, “Assurance Agreement.”

(ii) Form AD-1047, “Certification Regarding Debarment, Suspension, and Other Responsibility Matters-Primary Covered Transactions.”

(iii) Form AD-1048, “Certification Regarding Debarment, Suspension, Ineligibility and Voluntary Exclusion. Lower Tier Covered Transactions.”

(iv) Form AD-1049, “Certification Regarding Drug-Free Workplace Requirements (Grants).”

(v) Form AD-3031, “Assurance Regarding Felony Conviction or Tax Delinquent Status for Corporate Applicants.”

(4) Reporting. Reporting requirements for the period after grant approval and throughout grant completion will be outlined in the Agency-approved Grant Agreement.

VIII. Other Information

A. Paperwork Reduction Act

Under the Paperwork Reduction Act (44 U.S.C. 3501 et seq.), OMB must approve all “collection of information” as a requirement for “answers to * * * identical reporting or recordkeeping requirements imposed on ten or more persons * * *.” (44 U.S.C. 3502(3)(A).) RHS has concluded that the reporting requirements contained in this NOSA will involve less than 10 persons and do not require approval under the provisions of the Act.

B. Non-Discrimination Statement

In accordance with Federal civil rights laws and U.S. Department of Agriculture (USDA) civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; the USDA TARGET Center at (202) 720-2600 (voice and TTY); or the Federal Relay Service at (800) 877-8339.

To file a program discrimination complaint, a complainant should complete a Form AD-3027, USDA Program Discrimination Complaint Form, which can be obtained online at https://www.ocio.usda.gov/document/ad-3027, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: Program.Intake@usda.gov.

USDA is an equal opportunity provider, employer, and lender.

Joaquin Altoro,
Administrator, Rural Housing Service.

[FR Doc. 2022-01076 Filed 1-19-22; 8:45 am]

BILLING CODE 3410-XV-P